DEPARTMENT OF TRANSPORTATION

Federal Aviation Administration

14 CFR Part 39

[Docket No. 2001-NM-27-AD; Amendment 39-12125; AD 2001-03-52]

RIN 2120-AA64

Airworthiness Directives; Bombardier Model CL-600-2B16 (CL-604) Series Airplanes

AGENCY: Federal Aviation Administration, DOT.

ACTION: Final rule; request for comments.

SUMMARY: This document publishes in the Federal Register an amendment adopting airworthiness directive (AD) 2001-03-52 that was sent previously to all known U.S. owners and operators of Bombardier Model CL-600-2B16 (CL-604) series airplanes by individual notices. This AD requires revising the airplane flight manual to provide the flight crew with revised aft center of gravity (CG) limits. This action is prompted by issuance of mandatory continuing airworthiness information by a foreign airworthiness authority. The actions specified by this AD are intended to prevent fuel migration under conditions of acceleration and/or climb, which could result in the airplane exceeding the aft center of gravity limit, and consequent loss of control of the airplane.

DATES: Effective March 5, 2001, to all persons except those persons to whom it was made immediately effective by emergency AD 2001-03-52, issued February 2, 2001, which contained the requirements of this amendment.

The incorporation by reference of certain publications listed in the regulations is approved by the Director of the Federal Register as of March 5, 2001.

Comments for inclusion in the Rules Docket must be received on or before March 30, 2001.

ADDRESSES: Submit comments in triplicate to the Federal Aviation Administration (FAA), Transport Airplane Directorate, ANM-114, Attention: Rules Docket No. 2001-NM-27-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-27-AD” in the subject line and need not be submitted in triplicate. Comments sent via the Internet as attached electronic files must be formatted in Microsoft Word 97 for Windows or ASCII text.

The applicable service information may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: James E. Delisio, Aerospace Engineer, Airframe and Propulsion Branch, ANE-171, FAA, New York Aircraft Certification Office, 10 Fifth Street, Third Floor, Valley Stream, New York; telephone (516) 256-7521; fax (516) 568-2716.

SUPPLEMENTARY INFORMATION: On February 2, 2001, the FAA issued emergency AD 2001-03-52, which is applicable to certain Bombardier Model CL-600-2B16 (CL-604) series airplanes.

Transport Canada Civil Aviation (TCCA), which is the airworthiness authority for Canada, recently notified the FAA that an unsafe condition may exist on certain Bombardier Model CL-600-2B16 (CL-604) series airplanes. The TCCA reported a recent incident that occurred during a flight test in which, during the initial takeoff rotation, an airplane pitched up at a significantly high rate resulting in a natural stall. After the initial pushover from the stall, the airplane stalled again when the pilot attempted to raise the nose a second time.

Investigation revealed that fuel migration in the center fuel tank caused a center of gravity shift. The fuel tanks are not baffled, which allows fuel to migrate when the airplane pitches up. Such fuel migration under conditions of acceleration and/or climb, if not corrected, could result in the airplane exceeding the aft center of gravity limit, and consequent loss of control of the airplane.

Correction of Typographical Error

The FAA has revised paragraph (a) of this AD to correct a typographical error that appeared in the emergency AD. The typographical error referenced Canadair Challenger CL-604 Airplane Flight Manual (AFM) PSP-606-1, which does not exist, and has been changed to Canadair Challenger CL-604 Airplane Flight Manual (AFM) PSP-604-1 in the Federal Register version of the final rule.

FAA's Conclusions

This airplane model is manufactured in Canada and is type certificated for operation in the United States under the provisions of § 21.29 of the Federal Aviation Regulations (14 CFR 21.29) and the applicable bilateral airworthiness agreement. Pursuant to this bilateral airworthiness agreement, TCCA has kept the FAA informed of the situation described above. The FAA has examined the findings of the TCCA, reviewed all available information, and determined that AD action is necessary for products of this type design that are certificated for operation in the United States.

Explanation of the Requirements of the Rule

Since the unsafe condition described is likely to exist or develop on other airplanes of the same type design registered in the United States, the FAA issued emergency AD 2001-03-52 to prevent fuel migration under conditions of acceleration and/or climb, which could result in the airplane exceeding the aft center of gravity limit, and consequent loss of control of the airplane. The AD requires revising the FAA-approved Airplane Flight Manual to provide the flight crew with revised aft center of gravity (CG) limits that prevent fuel migration from resulting in a rearward shift of the CG to the degree that will result in controllability problems.

Since it was found that immediate corrective action was required, notice and opportunity for prior public comment thereon were impracticable and contrary to the public interest, and good cause existed to make the AD effective immediately by individual notices issued on February 2, 2001, to all known U.S. owners and operators of Bombardier Model CL-600-2B16 (CL-604) series airplanes. These conditions still exist, and the AD is hereby published in the Federal Register as an amendment to section 39.13 of the Federal Aviation Regulations (14 CFR 39.13) to make it effective as to all persons.

Comments Invited

Although this action is in the form of a final rule that involves requirements affecting flight safety and, thus, was not preceded by notice and an opportunity for public comment, comments are invited on this rule. Interested persons are invited to comment on this rule by submitting such written data, views, or arguments as they may desire.

Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-27-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-03-52 Bombardier Inc. (Formerly Canadair): Amendment 39-12125. Docket 2001-NM-27-AD.

Applicability: Model CL-600-2B16 (CL-604) series airplanes, serial numbers 5301 through 5489 inclusive; certificated in any category.

Compliance: Required as indicated, unless accomplished previously.

To prevent fuel migration under conditions of acceleration and/or climb, which could result in the airplane exceeding the aft center of gravity limit, and consequent loss of control of the airplane, accomplish the following:

Airplane Flight Manual Revision

(a) Within 5 days after the effective date of this AD, revise the Limitations and Abnormal Procedures Sections of the Canadair Challenger CL-604 Airplane Flight Manual (AFM) PSP-604-1, by inserting a copy of Canadair Challenger Temporary Revision (TR) No. 604/13, dated February 1, 2001, into the AFM.

(b) When the information in TR No. 604/13, dated February 1, 2001, has been incorporated into the FAA-approved general revisions of the AFM, the general revisions may be inserted in the AFM, and the TR may be removed from the AFM.

Alternative Methods of Compliance

(c) An alternative method of compliance or adjustment of the compliance time that provides an acceptable level of safety may be used if approved by the Manager, New York Aircraft Certification Office (ACO). Operators shall submit their requests through an appropriate FAA Principal Maintenance Inspector, who may add comments and then send it to the Manager, New York ACO.

Note 1: Information concerning the existence of approved alternative methods of compliance with this AD, if any, may be obtained from the New York ACO.

Note 2: The subject of this AD is addressed in Canadian airworthiness directive CF-2001-07, dated February 2, 2001.

Incorporation by Reference

(d) The AFM revision shall be done in accordance with Canadair Challenger Temporary Revision No. 604/13, dated February 1, 2001. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Effective Date

(e) This amendment becomes effective on March 5, 2001, to all persons except those persons to whom it was made immediately effective by emergency AD 2001-03-52, issued February 2, 2001, which contained the requirements of this amendment.

Issued in Renton, Washington, on February 13, 2001.
Vi L. Lipski,
Manager, Transport Airplane Directorate, Aircraft Certification Service.

[FR Doc. 01-4217 Filed 2-27-01; 8:45 am]

BILLING CODE 4910-13-P